DEPARTMENT OF HEALTH AND HUMAN SERVICES

Administration on Aging

Agency Information Collection Activities: Proposed Submission to the Office of Management and Budget (OMB) for Clearance; Comment Request; Revision and Reinstatement of Information Collection

AGENCY: Administration on Aging, HHS.

The Administration on Aging (AoA), Department of Health and Human Services, provides an opportunity for comment on the following proposal for the collection of information in compliance with the Paperwork Reduction Act (PRA; Pub. L. 96-511):

Title of Information Collection: State Program Report (SPR): Reporting Requirements for Titles III and VII of the Older Americans Act (OAA).

Type of Request: Reinstatement with modifications.

Use: The SPR is the source of program data for State programs on behalf of elderly individuals across the nation, administered under the OAA. The data are used by AoA to fulfill reporting requirements mandated under the OAA, the Government Performance and Results Act, and other Federal management statutes. AoA uses the data for program planning, management, assessment, accountability and development. Data for all States are published each year on the AoA website for use by the States, area agencies, providers and research entities for program analysis and other statistical purposes.

Frequency: Annual.

Respondents: State agencies on aging, including comparable agencies in U.S. territories and the District of Columbia, which administer OAA programs.

Estimated Number of Responses: 56.

Total Estimated Burden Hours: 140,000.

Additional Information or Comments: The Administration on Aging (AoA) has initiated a cooperative effort with State agencies on aging, area agencies on aging, and aging service providers to modify the SPR. Multiple factors influence AoA's plans to modify this fundamental information collection requirement at this time, particularly the following: (1) Need to incorporate into the SPR information requirements for the National Family Caregiver Support Program authorized by the 2000 Amendments to the OAA; (2) need to revise information requirements to comply with Office of Management and Budget (OMB) standards for gathering information on race and ethnicity; (3) the need to streamline and reduce the current information requirements of the SPR; and (4) the expiration of OMB approval of the SPR under the Paperwork Reduction Act in August 2002. Written comments and recommendations for the modification of this proposed information collection should be sent within 60 days of the publication of this Notice directly to the following address: Office of Planning and Evaluation, Administration on Aging, Attention: Frank Burns, 330 Independence Avenue, SW., Rm. 4741, Washington, DC 20201.

Dated: December 17, 2001.
Josefina G. Carbonell,
Assistant Secretary for Aging.

[FR Doc. 01-31501 Filed 12-20-01; 8:45 am]

BILLING CODE 4154-01-P